DEPARTMENT OF TRANSPORTATION

Federal Aviation Administration

Notice of Intent To Request Approval From the Office of Management and Budget of a Currently Approved Information Collection Activity, Request for Comments; Recording of Aircraft Conveyances and Security Documents

AGENCY: Federal Aviation Administration (FAA), DOT.

ACTION: Notice and request fro comments.

SUMMARY: The FAA invites public comments about our intention to request the Office of Management and Budget (OMB) to approve a current information collection. The information collected includes mortgages submitted by the public for recording against aircraft, engines, propellers, and spare parts locations.

DATES: Please submit comments by May 15, 2006.

FOR FURTHER INFORMATION CONTACT: Judy Street on (202) 267-9895, or by e-mail at: Judy.Street@faa.gov.

SUPPLEMENTARY INFORMATION:

Federal Aviation Administration (FAA)

Title: Recording of Aircraft Conveyances and Security Documents.

Type of Request: Approval of a currently approved collection.

OMB Control Number: 2120-0043.

Form(s): AC Form 8050-41.

Affected Public: An estimated 55,968 Respondents.

Frequency: The records are kept on occasion.

Estimated Average Burden Per Response: Approximately 1 hour per response.

Estimated Annual Burden Hours: An estimated 55,968 hours annually.

Abstract: The information collected includes mortgages submitted by the public for recording against aircraft, engines, propellers, and spare parts locations.

ADDRESSES: Send comments to the FAA at the following address: Ms. Judy Street, Room 1033, Federal Aviation Administration, Standards and Information Division, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 9, 2006.
Judith D. Street,
FAA Information Collection Clearance Officer, Information Systems and Technology Services Staff, ABA-20.

[FR Doc. 06-2494 Filed 3-14-06; 8:45 am]

BILLING CODE 4910-13-M